ENVIRONMENTAL PROTECTION AGENCY

[EPA-HQ-OPP-2 009-0123; FRL-8424-2]

Pentachloronitrobenzene (PCNB); Amendments to Terminate Uses

AGENCY: Environmental Protection Agency (EPA).

ACTION: Notice.

SUMMARY: This notice announces EPA's order for the amendments to terminate uses, voluntarily requested by the registrants and accepted by the Agency, of certain products containing the pesticide PCNB, pursuant to section 6(f)(1) of the Federal Insecticide, Fungicide, and Rodenticide Act (FIFRA), as amended. This order follows a March 30, 2009 Federal Register Notice of Receipt of Requests from the PCNB registrants to amend voluntarily certain of their PCNB product registrations. Specifically, the registrants requested to amend their registrations to terminate the following uses of PCNB: Golf course roughs; residential sites including lawns, yards, and ornamental plants and gardens around homes and apartments; grounds around day care facilities; school yards; parks (except industrial parks); playgrounds; and athletic fields (except professional and college fields). In the March 30, 2009 Notice, EPA indicated that it would issue an order implementing the amendments to terminate uses, unless the Agency received substantive comments within the 30-day comment period that would merit its further review of these requests, or unless the registrants withdrew their requests within this period. The Agency did not receive any comments on the notice. Further, the registrants did not withdraw their requests. Accordingly, EPA hereby issues in this notice an order granting the requested amendments to terminate certain uses. Any distribution, sale, or use of the PCNB products subject to this order is permitted only in accordance with the terms of this order, including any existing stocks provisions.

DATES: The cancellations are effective July 15, 2009.

FOR FURTHER INFORMATION CONTACT: Jill Bloom, Special Review and Reregistration Division, Office of Pesticide Programs, Environmental Protection Agency, 1200 Pennsylvania Ave., NW., Washington, DC 20460-0001; telephone number: (703) 308-8019; fax number: (703) 308-7070; e-mail address: bloom.jill@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2009-0123. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the amendments to terminate uses, as requested by registrants (Amvac Chemical Corporation and Chemtura Corporation), of certain of their end-use and manufacturing-use PCNB products registered under section 3 of FIFRA. These registrations are listed in sequence by registration number in Table 1 of this unit. Since the registrants submitted their initial 6(f)(1) requests to amend their registrations to terminate uses, Chemtura requested the transfer of most of its PCNB registrations to Amvac, including all of those PCNB registrations for which Chemtura had requested amendment. The transfer was approved on April 23, 2009. Therefore, Amvac will be responsible for amending all of the following registrations in accordance with this order. Former and current EPA registration numbers are shown for all affected products.

Table 1.—PCNB Product Registration Amendments to Terminate Uses
Current EPA Registration Number | EPA Registration Number prior to transfer | Product type (manufacturing-use or end-use product) | Product Name (names of transferred products may be expected to change)
5481-8981 | 400-399 | End-use | Terraclor 75W Wettable Powder
5481-8983 | 400-401 | Manufacturing-use | Terraclor Technical
5481-8984 | 400-402 | End-use | Terraclor 10% Granular, Revere 10% Granular
5481-8985 | 400-403 | End-use | Greenback Lawn Fungicide
5481-8986 | 400-404 | End-use | Turfcide Emulsifiable Fungicide
5481-8988 | 400-407 | End-use | Turfcide 10% Granular
5481-8990 | 400-414 | Manufacturing-use | Terraclor 90% Dust Concentrate
5481-8991 | 400-453 | End-use | Terraclor Flowable Fungicide
5481-8992 | 400-454 | End-use | Turfcide 4F, Turfcide 400, Terraclor 400, Revere 4000
5481-8994 | 400-457 | End-use | Turfcide 15G
5481-8995 | 400-458 | End-use | Terraclor 15G
5481-8996 | 400-459 | Manufacturing-use | Terrazan PCNB Technical 99%
5481-8997 | 400-460 | End-use | Terrazan 24% Emulsifiable Concentrate
5481-8998 | 400-479 | End-use | Turfcide WDG
5481-8999 | 400-504 | Manufacturing-use | Terraclor Tech 96
5481-197 | N/A | Manufacturing-use | Technical Grade PCNB 95%
5481-211 | N/A | End-use | PCNB 10% Granules Soil Fungicide
5481-214 | N/A | End-use | PCNB Soil and Turf Liquid Drench
5481-279 | N/A | End-use | PCNB 75% Wettable Powder
5481-419 | N/A | End-use | PCNB 75W Turf and Ornamental Soil Fungicide
5481-438 | N/A | Manufacturing-use | PCNB
5481-441 | N/A | End-use | PCNB 75 DG
5481-443 | N/A | End-use | PCNB 2 Flowable Turf and Ornamental Soil Fungicide
5481-444 | N/A | End-use | PCNB 10 G Turf and Ornamental Soil Fungicide
5481-450 | N/A | End-use | PCNB 20% WDG Soil Fungicide
5481-453 | N/A | End-use | PCNB 75 WSP
5481-457 | N/A | End-use | Turfpro WSP Turf and Ornamental Soil Fungicide
5481-464 | N/A | End-use | Par-Flo 6F
5481-465 | N/A | End-use | Par-Flo
5481-471 | N/A | End-use | Win-Flo 6F
5481-472 | N/A | End-use | Win-Flo

Table 2 of this unit includes the name and address of record for the registrant of the products in Table 1 of this unit.

Table 2.—Registrant of Amended PNCB Products
EPA Company Number | Company Name and Address
5481 | Amvac Chemical Corporation, 4695 MacArthur Court, Suite 1250, Newport Beach, CA 92660

III. Summary of Public Comments Received and Agency Response to Comments

During the public comment period provided, EPA received no comments in response to the March 30, 2009 Federal Register notice (FRL-8405-9) announcing the Agency's receipt of the requests for voluntary amendments to terminate certain uses of PCNB.

IV. Order Terminating Certain PCNB Uses

Pursuant to FIFRA section 6(f), EPA hereby approves the requested amendments to terminate uses of the PCNB registrations identified in Table 1 of Unit II. Accordingly, the Agency orders that the PCNB product registrations identified in Table 1 of Unit II. are hereby amended to terminate the following uses: Golf course roughs; residential sites including lawns, yards, and ornamental plants and gardens around homes and apartments; grounds around day care facilities; school yards; parks (except industrial parks); playgrounds; and athletic fields (except professional and college fields). Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

Amvac Corporation will be permitted to sell or distribute existing stocks of the manufacturing-use products referenced in Table 1 of Unit II., with labels that are not revised per the requested amendments for termination of uses (i.e., “previously approved labeling”), until 6 months after the effective date of this order. Persons other than Amvac Corporation may continue to use existing stocks of the manufacturing-use products referenced in Table 1 of Unit II., with previously approved labeling, for formulation into end-use products until 18 months after the effective date of this order, provided such use is consistent with the previously approved labeling for that product.

Amvac Corporation will be permitted to sell or distribute existing stocks of the end-use products referenced in Table 1 of Unit II., with previously approved labeling, until 18 months after the effective date of this order. Persons other than Amvac Corporation may sell or distribute existing stocks of the end-use products referenced in Table 1 of Unit II., with previously approved labeling, until 18 months after the effective date of this order. Users will be allowed to use existing stocks of the affected PCNB end-use products with previously approved labeling until such stocks are exhausted, provided such use is in a manner consistent with the previously approved labeling for that product.

List of Subjects

Environmental protection, Pesticides and pests.

Dated: July 2, 2009.
Peter Caulkins,
Acting Director, Special Review and Registration Division, Office of Pesticide Programs.

[FR Doc. E9-16812 Filed 7-14-09; 8:45 am]

BILLING CODE 6560-50-S